DEPARTMENT OF VETERANS AFFAIRS

Enhanced-Use Lease of VA Property for the Development and Operation of a Transitional Housing Facility for Eligible Homeless Veterans at the Department of Veterans Affairs Medical Center, Dayton, OH

AGENCY: Department of Veterans Affairs (VA).

ACTION: Notice of Intent to Enter into an Enhanced-Use Lease.

SUMMARY: The Secretary of the Department of Veterans Affairs (VA) intends to enter into an enhanced-use lease of approximately 41,817 gross square feet of underutilized building space at the VA Medical Center in Dayton, Ohio. The selected lessee will finance, renovate, construct, design, develop, operate, manage and maintain a transitional housing facility consisting of no less than 50 units for eligible homeless veterans. As consideration for the lease, eligible veterans will be provided facility units and related services on a priority basis at no cost to VA.

FOR FURTHER INFORMATION CONTACT: Edward Bradley, Office of Asset Enterprise Management (004B), Department of Veterans Affairs, 810 Vermont Avenue, NW., Washington, DC 20420, (202) 461-7778 (this is not a toll-free number).

SUPPLEMENTARY INFORMATION: Title 38 U.S.C. 8161 et seq. states that the Secretary may enter into an enhanced-use lease if he determines that implementation of a business plan proposed by the Under Secretary for Health for applying the consideration under such a lease for the provision of medical care and services would result in a demonstrable improvement of services to eligible veterans in the geographic service-delivery area within which the property is located. This project meets this requirement.

Approved: June 10, 2008.
James B. Peake,
Secretary of Veterans Affairs.

[FR Doc. E8-13823 Filed 6-18-08; 8:45 am]

BILLING CODE 8320-01-P